DEPARTMENT OF LABOR

Employment and Training Administration

[TA-W-59,288]

Gold Star Coatings, West Branch, MI; Notice of Termination of Investigation

Pursuant to section 221 of the Trade Act of 1974, as amended, an investigation was initiated on April 27, 2006, in response to a petition filed by a company official on behalf of workers of Gold Star Coatings, West Branch, Michigan.

The petitioner has requested that the petition be withdrawn. Consequently, further investigation would serve no purpose, and the investigation has been terminated.

Signed at Washington, DC, this 22nd day of May 2006.
Linda G. Poole,
Certifying Officer, Division of Trade Adjustment Assistance.

[FR Doc. E6-8946 Filed 6-7-06; 8:45 am]

BILLING CODE 4510-30-P